SMALL BUSINESS ADMINISTRATION

13 CFR Parts 125 and 128

Clarification To Direct Final Rule on Eliminating Self-Certification for Service-Disabled Veteran-Owned Small Businesses

AGENCY: U.S. Small Business Administration.

ACTION: Clarification to direct final rule.

SUMMARY: The U.S. Small Business Administration (SBA or Agency) publishes this document to clarify a direct final rule published on June 6, 2024. SBA revised its regulations to implement a provision in the National Defense Authorization Act for Fiscal Year 2024 (NDAA 2024), which eliminates self-certification for service-disabled veteran-owned small businesses (SDVOSBs) that are awarded Federal Government contracts or subcontracts that count towards agency or subcontracting goals. SBA received seven comments but did not receive significant adverse comment.

DATES: SDVOSBs may continue to self-certify until the grace period ends on December 22, 2024.

FOR FURTHER INFORMATION CONTACT: Donna Fudge, U.S. Small Business Administration, Office of Government Contracting and Business Development, 409 Third Street SW, 8th Floor, Washington, DC 20416; (202) 205-6353; Donna.Fudge@sba.gov. This phone number may also be reached by individuals who are deaf or hard of hearing, or who have speech disabilities, through the Federal Communications Commission's TTY-Based Telecommunications Relay Service teletype service at 711.

SUPPLEMENTARY INFORMATION: On June 6, 2024, SBA published a direct final rule, 89 FR 48266, to implement provisions of Section 864 of NDAA 2024 with an effective date of August 5, 2024. NDAA 2024 amends the SDVOSB requirements so that on October 1, 2024, each prime contract award and subcontract award counted for the purpose of meeting the goals for participation by SDVOSBs in procurement contracts for Federal agencies or Federal prime contractors shall be entered into with firms certified by VetCert under section 36 of the Small Business Act (15 U.S.C. 657f). Section 864 also created a grace period so that firms that file an application for certification with SBA by December 22, 2024, may continue to self-certify for such Federal Government contracts and subcontracts until SBA makes a final decision.

SBA received seven comments in response to this direct final rule. Several of these comments expressed confusion about the direct final rule's effective date because it precedes the date of certification required by NDAA 2024. It is not SBA's intent to require certification by August 5, 2024. The effective date of the direct final rule is simply the date that the Code of Federal Regulations is amended. NDAA 2024 provides a grace period so that SDVOSBs may continue to self-certify until December 22, 2024. These provisions are mandated by statute and SBA does not have the authority to alter them. SBA's intent was to give notice to participants of the upcoming requirement and their need to apply for certification by December 22, 2024.

Additionally, SBA received no significant adverse comments which would warrant withdrawing the rule. SBA views this as a non-controversial administrative action that is limited to implementing the provisions of NDAA 2024. These provisions are mandated by statute, and SBA does not have the authority to alter them in response to comment.

Larry Stubblefield,
Deputy Associate Administrator, Office of Government Contracting and Business Development.

[FR Doc. 2024-16961 Filed 7-31-24; 8:45 am]

BILLING CODE 8026-09-P